GENERAL SERVICES ADMINISTRATION

2008 Travel and Relocation Innovation Award

AGENCY: Office of Governmentwide Policy, General Services Administration (GSA).

ACTION: Notice.

SUMMARY: The General Services Administration (GSA) is announcing an extended nominations entry date for the 2008 Travel and Relocation Innovation Award. This award will recognize masters of travel and/or relocation management.

FOR FURTHER INFORMATION CONTACT: Go to GSA's 2008 Travel and Relocation Innovation Award at www.gsa.gov/travelrelocationaward or contact Jane Groat, Travel Management Policy, Office of Travel, Transportation, and Asset Management (MT), General Services Administration, Washington, DC 20405, (202) 501-4318, jane.groat@gsa.gov.

SUPPLEMENTARY INFORMATION: The Federal Travel Regulation is contained in Title 41 Code of the Federal Regulations (41 CFR Chapters 300 through 304), and implements statutory requirements and Executive branch policies for travel and relocation by Federal civilian employees and others authorized to travel and relocate at Government expense.

GSA announces an award to recognize and honor excellence in Federal travel and relocation. This award, available to all Federal employees, will honor individuals and/or teams. In addition to cash awards, one or more entries may receive honorable mention. Entries must be received no later than August 29, 2008.

Dated: July 10, 2008.
Patrick McConnell,
Acting Director, Travel Management Policy.

[FR Doc. E8-16355 Filed 7-16-08; 8:45 am]

BILLING CODE 6820-14-S